DEPARTMENT OF TRANSPORTATION

Federal Motor Carrier Safety Administration

[Docket No. FMCSA-1999-5578; FMCSA-1999-5748; FMCSA-1999-6480; FMCSA-2000-7165; FMCSA-2001-11426; FMCSA 2002-11714; FMCSA-2002-12294; FMCSA-2003-14223; FMCSA-2004-17195; FMCSA-2004-17984; FMCSA-2005-21254; FMCSA-2005-22194; FMCSA-2005-23238; FMCSA-2006-24015; FMCSA-2006-24783]

Qualification of Drivers; Exemption Renewals; Vision; Correction

AGENCY: Federal Motor Carrier Safety Administration (FMCSA), DOT.

ACTION: Notice of final disposition; Correction.

SUMMARY: On September 9, 2008 (73 FR 52451), October 17, 2008 (73 FR 61927), and October 31, 2008 (73 FR 65009), the Federal Motor Carrier Safety Administration (FMCSA) published four notices of final disposition in the Federal Register with an inadvertent error in each. Those notices stated that the Agency did not receive comments in the proceedings. This document corrects that error, because it was brought to the Agency's attention that comments had been submitted. This correction does not affect the Agency's previous decision to renew the exemptions from the vision requirement in the Federal Motor Carrier Safety Regulations for the individuals specifically identified in the September 9, 2008, October 17, 2008 and October 31, 2008 final disposition notices.

FOR FURTHER INFORMATION CONTACT: Dr. Mary D. Gunnels, Director, Medical Programs, (202)-366-4001, fmcsamedical@dot.gov, FMCSA, Department of Transportation, 1200 New Jersey Avenue, SE., Room W64-224, Washington, DC 20590-0001. Office hours are from 8:30 a.m. to 5 p.m. Monday through Friday, except Federal holidays.

SUPPLEMENTARY INFORMATION:

Electronic Access

You may see all the comments online through the Federal Document Management System (FDMS) at http://www.regulations.gov, by accessing the docket numbers in the heading of this notice.

Background

FMCSA announced in the September 9, 2008, October 17, 2008 and October 31, 2008 notices that no comments were received in the proceedings. This was in error. The notices should read that comments were received. The Advocates for Highway and Auto Safety filed the same comment in all four proceedings.

Corrections

1. In notice FR Doc. E8-20890 beginning on page 52451, second column, under the separate headings of Discussion of Comments and Conclusion, in the issue of Tuesday, September 9, 2008:

2. In notice FR Doc. E8-224695 beginning on page 61927, second column, under the separate headings of Discussion of Comments and Conclusion, in the issue of Friday, October 17, 2008:

3. In notice FR Doc. E8-224698 beginning on page 61927, third column, under the separate headings of Discussion of Comments and Conclusion, in the issue of Friday, October 17, 2008:

4. In notice FR Doc. E8-26059 beginning on page 65010, first column, under the separate headings of Discussion of Comments and Conclusion, in the issue of Friday, October 31, 2008, change to read as follows:

Discussion of Comments

FMCSA received one comment in this proceeding. The comment was considered and discussed below.

Advocates for Highway and Auto Safety (Advocates) expressed opposition to FMCSA's policy to grant exemptions from the FMCSR, including the driver qualification standards. Specifically, Advocates: (1) Objects to the manner in which FMCSA presents driver information to the public and makes safety determinations; (2) objects to the Agency's reliance on conclusions drawn from the vision waiver program; (3) claims the Agency has misinterpreted statutory language on the granting of exemptions (49 U.S.C. 31136(e) and 31315); and finally (4) suggests that a 1999 Supreme Court decision affects the legal validity of vision exemptions.

The issues raised by Advocates were addressed at length in 64 FR 51568 (September 23, 1999), 64 FR 66962 (November 30, 1999), 64 FR 69586 (December 13, 1999), 65 FR 159 (January 3, 2000), 65 FR 57230 (September 21, 2000), and 66 FR 13825 (March 7, 2001). We will not address these points again, but refer interested parties to those earlier discussions.

Conclusion

FMCSA has statutory authority to exempt individuals from the vision requirement if the exemptions granted will not compromise safety. The Agency has reviewed the comments submitted in response to the previous announcements and concluded that granting these exemptions will provide a level of safety that will be equivalent to, or greater than, the level of safety maintained without the exemptions for these commercial motor vehicle (CMV) drivers. The Agency has not received any adverse evidence on any of these drivers that indicates that safety is being compromised. Based upon evaluation of the renewal applicants, FMCSA stands by its decision to renew the exemptions from the Federal Motor Carrier Safety regulations for the 39 individuals specified in the September 9, 2008 final disposition notice, the 34 individuals and the 16 individuals specified in the two October 17, 2008 final disposition notices and the 13 individuals specified in October 31, 2008 final disposition notice.

In accordance with 49 U.S.C. 31136(e) and 31315, each renewal exemption will be valid for 2 years unless revoked earlier by FMCSA. The exemption will be revoked if: (1) The person fails to comply with the terms and conditions of the exemption; (2) the exemption has resulted in a lower level of safety than was maintained before it was granted; or (3) continuation of the exemption would not be consistent with the goals and objectives of 49 U.S.C. 31136 and 31315.

Issued on: January 29, 2009
Larry W. Minor,
Associate Administrator for Policy and Program Development.

[FR Doc. E9-2437 Filed 2-4-09; 8:45 am]

BILLING CODE 4910-EX-P